DEPARTMENT OF EDUCATION

[CFDA No. 84.184H]

Office of Elementary and Secondary Education—Safe and Drug-Free Schools and Communities—National Programs

AGENCY: Department of Education.

ACTION: Notice reopening application deadline date.

SUMMARY: The Secretary reopens the deadline date for the submission of applications for the Grant Competition to Prevent High-Risk Drinking and Violent Behavior Among College Students. The Secretary takes this action because certain potential applicants may have been affected by severe weather-related occurrences that precluded them from submitting their applications before the originally announced application deadline date. The reopening is intended to help these potential applicants compete fairly with other applicants under this program.

Background: On December 27, 2000, the Department published a combined notice inviting applications for new awards for direct grant competitions under Safe and Drug-Free Schools and Communities National Programs (65 FR 82222). That notice set February 16, 2001, as the deadline date for the submission of applications under Grant Competition to Prevent High-Risk Drinking and Violent Behavior Among College Students.

DATES: The new application deadline date is March 23, 2001. The deadline for intergovernmental review remains April 16, 2001.

FOR FURTHER INFORMATION CONTACT: Safe and Drug-Free Schools Program, U.S. Department of Education, 400 Maryland Avenue, SW., Washington, DC 20202-6123. Telephone: (202) 260-3954. Individuals who use a telecommunication device for the deaf (TDD) may call the Federal Information Relay Service (FIRS) at (800) 877-8339.

Authority: 20 U.S.C. 7131.

Dated: March 15, 2001.
Thomas M. Corwin,
Acting Deputy Assistant Secretary for Elementary and Secondary Education.

[FR Doc. 01-6916 Filed 3-19-01; 8:45 am]

BILLING CODE 4000-01-U